DEPARTMENT OF THE TREASURY

Internal Revenue Service

26 CFR Part 1

[REG-143544-04]

RIN 1545-BD84

Regulations Enabling Elections for Certain Transactions Under Section 336(e)

Correction

In proposed rule document E8-19603 beginning on page 49965 in the issue of Monday, August 25, 2008, make the following correction:

§1.336-3 [Corrected]

1. On page 49979, in the first column, in §1.336-3(d)(1), in the twenty-second line, “into account in an amount” should read “into account in amount”.

2. On the same pages, in the same column, in §1.336-3(d)(2), in the last line, “into account in an amount” should read “into account in amount”.

[FR Doc. Z8-19603 Filed 10-8-08; 8:45 am]

BILLING CODE 1505-01-D